DEPARTMENT OF HEALTH AND HUMAN SERVICES

Centers for Disease Control and Prevention

[60Day-12-12EF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly Lane CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluating the Effectiveness of Occupational Safety and Health Program Elements in the Wholesale Retail Trade Sector—New—National Institute for Occupational Safety and Health (NIOSH), Centers for Disease Control and Prevention (CDC).

Background and Brief Description

The mission of the National Institute for Occupational Safety and Health (NIOSH) is to promote safety and health at work for all people through research and prevention. Under Public Law 91-596, sections 20 and 22 (Section 20-22, Occupational Safety and Health Act of 1970), NIOSH has the responsibility to conduct research to advance the health and safety of workers. In this capacity, NIOSH proposes to conduct a study to assess the effectiveness of occupational safety and health (OSH) program elements in the wholesale/retail trade (WRT) sector.

Liberty Mutual has estimated direct workers compensation costs to industry in the United States in 2009 to be $50 billion. The WRT industry sector employs over 21 million workers or 19% of the workforce in private industry. In 2007, the majority of non-fatal injuries and illnesses involving days away from work in the WRT sector involved musculoskeletal disorders (MSDs, 29%) or slip/trip/falls (STFs, 22%). For this reason, major strategic NIOSH goals in the WRT sector are to reduce MSDs, STFs and other injuries/illnesses in part by assessing the effectiveness of occupational safety and health (OSH) programs designed to prevent these outcomes. There is some evidence that OSH prevention programs built on key elements (management leadership, employee participation, hazard identification and control, medical management, training, and program evaluation) reduce losses. However, little evidence exists on the relative effectiveness of program elements compared to each other. There is a need for research to develop reliable OSH program metrics and determine which elements have the greatest impact on injuries, illnesses and work disability. A renewed partnership between NIOSH and the Ohio Bureau of Workers Compensation (OBWC) provides a timely opportunity to conduct such research in a relevant and efficient manner.

A collaborative study involving NIOSH and the OBWC will examine the association between survey-assessed OSH program elements (organizational policies, procedures, practices) and workers compensation (WC) injury/illness outcomes in a stratified sample of OBWC-insured wholesale/retail trade (WRT) firms. Crucial OSH program elements with particularly high impact on WC losses will be identified in this study and disseminated to the WRT sector. This study will provide important information that is not currently available elsewhere on the effectiveness of OSH programs for the WRT sector. This project fits the mission of CDC-NIOSH to conduct scientific intervention effectiveness research to support the evidenced based prevention of occupational injuries and illnesses.

For this study, the target population includes United States WRT firms (North American Industry Classification System codes 42, 44, 45). The sampling frame includes OBWC-insured WRT firms in Ohio. The study sample includes OBWC-insured WRT firms who volunteer to participate in the OBWC-NIOSH research project.

The proposed research involves a firm-level survey of a series of organizational metrics considered to be potential predictors of injury and illness WC claim rates and duration in a stratified sample of OBWC-insured WRT firms in Ohio. There are expected to be up to 4,404 participants per year; surveys will be administered twice to the same firms in successive years (e.g. from January-December 2012 and again from January-December 2013).

An individual responsible for the OSH program at each firm will be asked to complete a survey that includes a background section related to respondent and company demographics and a main section where individuals will be asked to evaluate organizational metrics related to their firm's OSH program. The firm-level survey data will be linked to five years of retrospective injury and illness WC claims data and two years of prospective injury and illness WC claims data from OBWC to determine which organizational metrics are related to firm-level injury and illness WC claim rates. A nested study will ask multiple respondents at a subset of 60 firms to participate by completing surveys. A five-minute interview will be conducted with a 10% sample of non-responders (up to 792 individuals).

In order to maximize efficiency and reduce burden, a Web-based survey is proposed for the majority (95%) of survey data collection. Collected information will be used to determine whether a significant relationship exists between self-reported firm OSH elements and firm WC outcomes while controlling for covariates. Once the study is completed, benchmarking reports about OSH elements that have the highest impact on WC losses in the WRT sector will be made available through the NIOSH-OBWC Internet sites and peer-reviewed publications.

In summary, this study will determine the effectiveness of OSH program elements in the WRT sector and enable evidence-based prevention practices to be shared with the greatest audience possible. NIOSH expects to complete data collection in 2014. There is no cost to respondents other than their time.

Estimated Annualized Burden Hours
Type of respondent | Form name | Number of respondents | Number of responses per respondent | Avg. burden per response (in hours) | Total burden (in hours)
Safety and Health Managers in | Occupational Safety and Health Program Survey | 4,404 | 1 | 20/60 | 1,468
| Informed Consent Form | 4,404 | 1 | 2/60 | 147
| Non Responder Interview | 792 | 1 | 5/60 | 66
Total Hours |  |  |  |  | 1,681

Dated: February 10, 2012.
Ronald Otten,
Deputy Chief, Centers for Disease Control and Prevention.

[FR Doc. 2012-3622 Filed 2-17-12; 8:45 am]

BILLING CODE 4163-18-P